DEPARTMENT OF THE INTERIOR

Fish and Wildlife Service

Record of Decision for the Programmatic Environmental Impact Statement/Environmental Impact Report for the San Francisco Estuary Invasive Spartina Project: Spartina Control Program

AGENCY: Fish and Wildlife Service, Interior.

ACTION: Notice of availability.

SUMMARY: The Fish and Wildlife Service (Service) announces availability of the Record of Decision (ROD) for the Programmatic Environmental Impact Statement/Environmental Impact Report (EIS/R) for the San Francisco Estuary Invasive Spartina Project: Spartina Control Program. The ROD is available to the public after publication of this Notice of Availability in the Federal Register. The Service and the California State Coastal Conservancy jointly prepared the EIS/R to address environmental impacts and benefits of alternatives for the Spartina Control Program and provide for early-stage public involvement, as required under the National Environmental Policy Act (NEPA) and California Environmental Quality Act (CEQA). The Spartina Control Program's goal is to control or eradicate four species of non-native, invasive perennial cordgrass (genus Spartina) in the San Francisco Bay Estuary (Estuary), including the San Francisco Bay National Wildlife Refuge.

Requests for the ROD should be directed to Mr. Wayne White, Field Supervisor, U.S. Fish and Wildlife Service, Sacramento Fish and Wildlife Office, 2800 Cottage Way, Room W-2605, Sacramento, CA 95825.

FOR FURTHER INFORMATION CONTACT: Mr. Mark Littlefield, Sacramento Fish and Wildlife Office, (916) 414-6600.

SUPPLEMENTARY INFORMATION: The programmatic EIS/R analyzed potential effects of implementing Spartina control or eradication methods at a generalized, region-wide program level rather than a detailed, individual project level. The purpose of the Spartina Control Program is to arrest and reverse the spread of invasive, non-native cordgrasses (S. alterniflora, S. anglica, S. densiflora, and S. patens) in the Estuary to preserve and restore the ecological integrity of its intertidal habitats and estuarine ecosystem.

The Estuary supports a diverse array of native plants and animals, including several Federal and State listed species. Many nonnative species of plants and animals have been introduced into the Estuary, and some now threaten to cause fundamental changes in the structure, function, and ecological value of the Estuary's tidal lands. In recent decades, populations of nonnative cordgrasses were introduced to the Estuary and rapidly began to spread. Although valuable in their native settings, these introduced cordgrasses are highly invasive in new environments and frequently become the dominant plant species. In particular, the non-native Atlantic smooth cordgrass (S. alterniflora) and its hybrids, formed when this species crosses with native Pacific cordgrass (S. foliosa), are now threatening the ecological balance of the Estuary. In the Estuary, Atlantic smooth cordgrass is likely to choke tidal creeks, dominate newly restored tidal marshes, impair thousands of acres of existing shorebird habitat, and eventually cause extinction of the native Pacific cordgrass.

Once established in the Estuary, nonnative invasive cordgrass could rapidly spread to other estuaries along the California coast through seed dispersal on the tides. Nonnative invasive cordgrasses are spreading rapidly in the Estuary and currently dominate 500 acres of mudflats and tidal marshes on State, Federal, municipal, and private lands. The Spartina Control Program implemented through the selected alternative will provide for a coordinated, region-wide eradication program, consisting of a number of on-the-ground treatment techniques to address this invasion. The Spartina Control Program focuses on the nearly 40,000 acres of tidal marsh and 29,000 acres of tidal flats that compose the shoreline areas of Alameda, Contra Costa, Marin, Napa, San Francisco, San Mateo, Santa Clara, Solano, Sonoma, and Sacramento counties.

The ROD provides: (1) The Service's decision; (2) the proposed action; (3) alternatives considered in the EIS/R, including the Environmentally Preferable Alternative (Selected Alternative); (4) the basis for the Service's decision; (5) associated impacts, mitigation and findings, providing all practicable means to avoid and minimize environmental harm; (6) public involvement, including an explanation of changes made between the draft and final EIS/R; (7) implementation guidelines; and (8) conclusion.

(Authority: National Environmental Policy Act (42 U.S.C. 4321 et seq.); Regulations for Implementing the Procedural Provisions of the National Environmental Policy Act (40 CFR 1500-1508)).

D. Kenneth McDermond,
Acting Manager, California/Nevada Operations Office.

[FR Doc. 04-19312 Filed 8-23-04; 8:45 am]

BILLING CODE 4310-55-P